ENVIRONMENTAL PROTECTION AGENCY

[CERCLA-04-2025-7003; FRL-13062-01-R4]

Ward Transformer Superfund Site, Raleigh, North Carolina; Proposed Settlement

AGENCY: Environmental Protection Agency (EPA)

ACTION: Notice of proposed settlement.

SUMMARY: Under the Comprehensive Environmental Response, Compensation and Liability Act (CERCLA), the United States Environmental Protection Agency (EPA) is proposing to enter into an Administrative Settlement Agreement with the Raleigh Durham Airport Authority concerning the Ward Transformer Superfund Site located in Raleigh, North Carolina. The proposed settlement agreement addresses certain work to be performed at the Site under EPA oversight and reimbursement of costs associated with such oversight, by the Raleigh Durham Airport Authority, as a Bona Fine Prospective Purchaser and Local Government entity.

DATES: The Agency will consider public comments on the proposed settlement until February 9, 2026. The Agency will consider all comments received and may modify or withdraw its consent to the proposed settlement if comments received disclose facts or considerations which indicate that the proposed settlement is inappropriate, improper, or inadequate.

ADDRESSES: Copies of the proposed settlement are available from the Agency by contacting Mrs. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at (404) 562-8887.

Authority: Comprehensive Environmental Response, Compensation and Liability Act (CERCLA), 42 U.S.C. 9601-9675.

Maurice Horsey,
Branch Chief, Enforcement Branch, Superfund & Emergency Management Division.

[FR Doc. 2026-00255 Filed 1-8-26; 8:45 am]

BILLING CODE 6560-50-P